DEPARTMENT OF AGRICULTURE

Office of the Secretary

7 CFR Part 25

Rural Empowerment Zones and Enterprise Communities

AGENCY: Office of the Secretary, USDA.

ACTION: Final rule.

SUMMARY: The Secretary of the U.S. Department of Agriculture acting through the Under Secretary, Rural Development, revises the regulations for the rural empowerment zone program to amend the definition of designation date to include the designation date for two rural empowerment zones authorized by the Community Renewal Tax Relief Act of 2000 (Round III).

EFFECTIVE DATE: April 3, 2003.

FOR FURTHER INFORMATION CONTACT: Deputy Administrator for Community Development, USDA Rural Development, Office of Community Development, STOP 3203, 1400 Independence Ave., SW., Washington, DC 20024-3203, telephone 1-800-645-4712, or by sending an Internet e-mail message to “feedback@ocdx.usda.gov”. For hearing- and speech-impaired persons, information concerning this program may be obtained by contacting USDA's Target Center at (202) 720-2600 (Voice and TDD).

SUPPLEMENTARY INFORMATION:

Classification

This rule has been determined to be non-significant for purposes of Executive Order 12866 and, therefore, has not been reviewed by the Office of Management and Budget (OMB).

Programs Affected

The Catalog of Federal Domestic Assistance Program affected by this action is 10.772, Empowerment Zone Program.

Program Administration

The program is administered through the Office of Community Development within the Rural Development mission area of the Department of Agriculture.

Paperwork Reduction Act

There are no reporting or recordkeeping requirements associated with this rule.

Intergovernmental Review

This program is not subject to the provisions of Executive Order 12372, which requires intergovernmental consultation with State and local officials.

Regulatory Flexibility Act

In compliance with the Regulatory Flexibility Act (5 U.S.C. 601-612), the undersigned has determined and certified by signature of this document that this rule will not have a significant economic impact on a substantial number of small entities. New provisions included in this rule will not impact a substantial number of small entities to a greater extent than large entities. Therefore, a regulatory flexibility analysis was not performed.

Civil Justice Reform

This rule has been reviewed under Executive Order 12988, Civil Justice Reform. In accordance with this Executive Order: (1) All State and local laws and regulations that are in conflict with this rule will be preempted, (2) no retroactive effect will be given to this rule and (3) administrative proceedings in accordance with the regulations of the Agency at 7 CFR part 11 must be exhausted before bringing litigation challenging action taken under this rule unless those regulations specifically allow bringing suit at an earlier time.

Environmental Impact Statement

It is the determination of the Secretary that this action is not a major Federal action significantly affecting the environment. Therefore, in accordance with the National Environmental Policy Act of 1969, Public Law 91-190, and 7 CFR part 25, an Environmental Impact Statement is not required.

The Unfunded Mandates Reform Act of 1995

Title II of the Unfunded Mandates Reform Act of 1995 (UMRA), Public Law 104-4, establishes requirements for Federal agencies to assess the effects of their regulatory actions on state, local, and tribal governments and the private sector. Under section 202 of the UMRA, USDA must prepare a written statement, including a cost benefit analysis, for proposed and final rules with “Federal mandates” that may result in expenditures to state, local or tribal governments, in the aggregate, or to the private sector, of $100 million or more in any one year. When such a statement is needed for a rule, section 205 of UMRA generally requires USDA to identify and consider a reasonable number of regulatory alternatives and adopt the least costly, more cost effective or least burdensome alternative that achieves the objectives of the rule.

This rule contains no Federal mandates (under the regulatory provisions of title II of the UMRA) for state, local, and tribal governments or the private sector. Therefore this rule is not subject to the requirements of sections 202 and 205 of UMRA.

Executive Order 13132, Federalism

The policies contained in this rule will not have substantial direct effects on states or their political subdivisions, or the relationship between the Federal Government and the states, or on the distribution of power and responsibilities among the various levels of government. Nor does this rule impose substantial direct compliance costs or other effects on States or their political subdivisions or on the distribution of power and responsibilities among the various levels of governments. Thus, it has been determined under Executive Order 13132, Federalism, that this rule does not have sufficient federalism implications to warrant the preparation of a Federalism Assessment.

Background

On December 21, 2000, the Community Renewal Tax Relief Act (Pub. L. 106-554) was signed into law, authorizing the designation of two additional rural empowerment zones, bringing the total authorized rural empowerment zones to ten. The eligibility criteria for Round III are exactly the same as for the rural empowerment zones authorized by the Taxpayer Relief Act of 1997 (Pub. L. 105-34).

The Secretary announced on January 11, 2002 that the Northern Maine Development Commission, Inc. (Aroostook County) in Maine and Middle Rio Grande FUTURO Communities in Texas were designated as rural empowerment zones pursuant to the Round III authorizing legislation.

It is important to establish with certainty the beginning date of the period that runs with empowerment zone designation for these communities. It is particularly relevant to bond counsels which provide opinions on the validity of tax preferential bonds issued under the empowerment zone provisions in the Internal Revenue Code. Accordingly, this final rule amends the definition of designation date to include the designation date for Round III empowerment zones in addition to the other relevant designation dates.

This regulation is being published as a final rule without a Notice of Prior Rulemaking because the change being made is a matter of historical fact and is not subject to change in response to comments. Therefore, public comment is unnecessary and impracticable and contrary to the public interest. For this same reason, this final rule will be effective immediately upon publication.

Delegation of Authority

In the Final Rule published on March 25, 2002 (67 FR 13553), the Secretary of Agriculture delegated to the Under Secretary, Rural Development, authority to promulgate regulations for 7 CFR part 25.

List of Subjects in 7 CFR Part 25

Community development, Economic development, Empowerment zones, Enterprise communities, Housing, Indians, Intergovernmental relations, Reporting and recordkeeping requirements, Rural development.

In accordance with the reasons set out in the preamble, 7 CFR part 25 is amended as follows:

PART 25—RURAL EMPOWERMENT ZONES AND ENTERPRISE COMMUNITIES

1. The authority citation for part 25 is revised to read as follows:

Authority: 5 U.S.C. 301; 26 U.S.C. 1391; Pub. L. 103-66, 107 Stat. 543; Pub L. 105-34, 111 Stat. 885; Sec. 766, Pub. L. 105-277, 112 Stat. 2681-37; Pub. L. 106-554 [Title I of H.R. 5562], 114 Stat. 2763.

Subpart A—General Provision

2. Amend § 25.3 by revising the definition of “designation date” to read as follows:

§ 25.3 Definitions.

* * * * *

Designation date means December 21, 1994, in the case of Round I designations, December 24, 1998, in the case of Round II and Round IIS designations and January 11, 2002, in the case of Round III designations.

* * * * *

Dated: March 25, 2003.
Thomas C. Dorr,
Under Secretary, Rural Development.

[FR Doc. 03-8039 Filed 4-2-03; 8:45 am]

BILLING CODE 3410-01-P